DEPARTMENT OF EDUCATION

Reopening; Application Deadline for Fiscal Year 2016; Small, Rural School Achievement Program

AGENCY: Office of Elementary and Secondary Education, Department of Education.

ACTION: Notice.

Catalog of Federal Domestic Assistance (CFDA) Number: 84.358A.

SUMMARY: On February 5, 2016, we published in the Federal Register (81 FR 6251) a notice inviting applications for fiscal year (FY) 2016 awards under the Small, Rural School Achievement (SRSA) program. The notice established a deadline of May 2, 2016, for submission of FY 2016 SRSA grant applications. This notice reopens the application period until May 31, 2016, 4:30:00 p.m., Washington, DC time. All other requirements and conditions stated in the notice inviting applications remain the same.

DATES: Deadline for Transmittal of Applications: May 31, 2016, 4:30:00 p.m., Washington, DC time.

SUPPLEMENTARY INFORMATION: The Department contacts local educational agencies that we determine to be newly eligible for SRSA funding, informs them of their eligibility, and instructs them to apply for funding. Due to unanticipated delays in the eligibility determination process, eligible applicants were not able to submit their applications for FY 2016 awards under the SRSA program by the close of the initial application period. Therefore, we are reopening the application period until May 31, 2016, 4:30:00 p.m., Washington, DC time. All other requirements and conditions stated in the notice inviting applications remain the same.

Applicants that did not meet the initial May 2 deadline must submit applications by May 31 to be considered for FY 2016 funding. Applicants that already submitted timely applications that meet all of the requirements of the notice inviting applications do not have to resubmit their applications.

FOR FURTHER INFORMATION CONTACT: David Cantrell, Rural Programs Group Leader, Office of Elementary and Secondary Education, 400 Maryland Avenue SW., Room 3E-204, Washington, DC 20202. Telephone: (202) 453-5990 or by email: reap@ed.gov.

If you use a telecommunications device for the deaf or a text telephone, call the Federal Relay Service, toll free, at 1-800-877-8339.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Program Authority: Sections 6211-6213 of the Elementary and Secondary Education Act of 1965, as amended by the No Child Left Behind Act of 2001.

Dated: May 12, 2016.
Ann Whalen,
Senior Advisor to the Secretary Delegated the Duties of Assistant Secretary for Elementary and Secondary Education.

[FR Doc. 2016-11594 Filed 5-16-16; 8:45 am]

BILLING CODE 4000-01-P